DEPARTMENT OF HEALTH AND HUMAN SERVICES

Food and Drug Administration

[Docket No. 99F-2535]

Ciba Specialty Chemicals Corp; Withdrawal of Food Additive Petition

AGENCY: Food and Drug Administration, HHS.

ACTION: Notice.

SUMMARY: The Food and Drug Administration (FDA) is announcing the withdrawal, without prejudice to a future filing, of a food additive petition (FAP 9B4680) proposing that the food additive regulations be amended to provide for the expanded safe use of 5,7-bis(1,1-dimethylethyl)-3-hydroxy-2(3H)-benzofuranone, reaction products with o-xylene as an antioxidant and/or stabilizer in olefin polymers, adhesives, pressure-sensitive adhesives, and ethylene-vinyl acetate copolymers intended for use in contact with food.

FOR FURTHER INFORMATION CONTACT: Anna P. Shanklin, Center for Food Safety and Applied Nutrition (HFS-215), Food and Drug Administration, 200 C St. SW., Washington, DC 20204, 202-418-3093.

(After December 14, 2001, the Center for Food Safety and Applied Nutrition's address will be: 5100 Paint Branch Pkwy., College Park, MD 20740.)

SUPPLEMENTARY INFORMATION: In a notice published in the Federal Register of August 6, 1999 (64 FR 42950), FDA announced that a food additive petition (FAP 9B4680) had been filed by Ciba Specialty Chemicals Corp., 540 White Plains Rd., Tarrytown, NY 10591-9005. The petition proposed to amend the food additive regulations in § 178.2010 Antioxidants and/or stabilizers for polymers (21 CFR 178.2010) to provide for the expanded safe use of 5,7-bis(1,1-dimethylethyl)-3-hydroxy-2(3H)-benzofuranone, reaction products with o-xylene as an antioxidant and/or stabilizer for olefin polymers complying with 21 CFR 177.1520, adhesives complying with 21 CFR 175.105, pressure-sensitive adhesives complying with 21 CFR 175.125, and ethylene-vinyl acetate copolymers complying with 21 CFR 177.1350 intended for use in contact with food. Ciba Specialty Chemicals Corp. has now withdrawn the petition without prejudice to a future filing (21 CFR 171.7).

Dated: November 16, 2001.
L. Robert Lake,
Director of Regulations and Policy, Center for Food Safety and Applied Nutrition.

[FR Doc. 01-30765 Filed 12-12-01; 8:45 am]

BILLING CODE 4160-01-S